FEDERAL COMMUNICATIONS COMMISSION

Notice of Public Information Collection(s) Being Submitted for Review to the Office of Management and Budget

August 3, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 7, 2007. If you anticipate that you will be submitting PRA comments, but find it difficult to do so within the period of time allowed by this notice, you should advise the FCC contact listed below as soon as possible.

ADDRESSES: Direct all PRA comments to Nicholas A. Fraser, Office of Management and Budget, Room 10236 NEOB, Washington, DC 20503, (202) 395-5887, or via fax at 202-395-5167 or via email to Nicholas_A._Fraser@omb.eop.gov, and to Jerry Cowden, Federal Communications Commission, Room 1-B135, 445 12th Street, SW, DC 20554 or via e-mail to PRA@fcc.gov. If you would like to obtain or view a copy of this information collection after the 60-day comment period, you may do so by visiting the FCC PRA Web page at: http://www.fcc.gov/omd/pra.

FOR FURTHER INFORMATION CONTACT: For additional information or copies of the information collection(s), contact Jerry Cowden at 202-418-0447 or via e-mail at PRA@fcc.gov.

SUPPLEMENTARY INFORMATION: OMB Control Number: 3060-0855.

Title: Telecommunications Reporting Worksheets.

Form Nos.: FCC Forms 499-A and 499-Q.

Type of Review: Revision of a currently approved collection.

Respondents: Business or other for-profit and not-for-profit institutions.

Number of Respondents: 5,625 respondents; 36,068 responses.

Estimated Time per Response: 15 minutes—25 hours.

Frequency of Response: On occasion, quarterly, and annual reporting requirements, recordkeeping requirement, third party disclosure requirement.

Obligation to Respond: Mandatory.

Total Annual Burden: 273,129 hours.

Total Annual Cost: N/A.

Privacy Act Impact Assessment: N/A.

Nature and Extent of Confidentiality: The Commission will allow respondents to certify that data contained in their submission are privileged or confidential commercial or financial information and that disclosure of such information would likely cause substantial harm to the competitive position of the entity filing the Worksheet. If the Commission receives a request for or proposes to disclose the information, the respondent would be required to make the full showing pursuant to the Commission's rules for withholding from public inspection information submitted to the Commission.

Needs and Uses: The 60-day Notice for this collection was published as an extension. Since that publication, however, the U.S. Court of Appeals of the District of Columbia Circuit issued a decision and the Commission issued an order affecting this collection which requires that the collection now be submitted as a revision. Specifically, on June 1, 2007, the U.S. Court of Appeals of the District of Columbia Circuit, in Vonage Holdings Corp. v. FCC, generally affirmed the 2006 Contribution Methodology Order. The Court, however, vacated the pre-approval requirement for traffic studies submitted by interconnected VoIP providers and the interim suspension of the carrier's carrier rule. Later, on June 15, 2007, the Commission released an Order requiring interconnected VoIP providers to contribute to the Telecommunications Relay Service (TRS) fund. The revised 2007 FCC 499-A and 499-Q forms and instructions contained in this submission incorporate the changes required by the Vonage Holdings Corp. Decision and TRS Contribution Order.

The Federal Communications Commission (Commission) requires telecommunications carriers and other providers of telecommunications to contribute to the Universal Service Fund (USF) and other funds. Contribution revenue data, as well as other information, are reported by carriers and other providers of telecommunications on FCC Forms 499-A and 499-Q. Accompanying these forms are instructions on how to report revenue. This revision is necessary to incorporate the changes required by the Vonage Holdings Corp. Decision and TRS Contribution Order and will go into effect with the November 1, 2007 quarterly filing of FCC Form 499-Q.

Federal Communications Commission.
Marlene H. Dortch,
Secretary.

[FR Doc. E7-15450 Filed 8-7-07; 8:45 am]

BILLING CODE 6712-01-P